DEPARTMENT OF HEALTH AND HUMAN SERVICES

Administration for Children and Families

Proposed Information Collection Activity; Comment Request; Proposed Projects

Title: Survey of State Implementation of Public Law 109-239, The Safe and Timely Interstate Placement of Foster Children Act of 2006.

OMB No.: New collection.

Description: The Safe and Timely Interstate Placement of Foster Children Act, effective October 1, 2006, encourages States to improve protections for children and holds States accountable for the safe and timely placement of children across State lines. The purpose of this brief survey is to document how States have implemented the home study provisions of the law, to identify problems in following the requirements, and to discover the solutions that have been developed to address such problems. The results of the survey will be used to prepare a Report to Congress, as mandated by the law.

Respondents: States, the District of Columbia, and Puerto Rico.

Annual Burden Estimates
Instrument | Number of respondents | Number of responses per respondent | Average burden hours per response | Total burden hours
Survey | 52 | 1 | 2 | 104
Estimated Total Annual Burden Hours |  |  |  | 104

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: September 8, 2008.
Janean Chambers,
Reports Clearance Officer.

[FR Doc. E8-21129 Filed 9-11-08; 8:45 am]

BILLING CODE 4184-01-P